DEPARTMENT OF COMMERCE

National Oceanic and Atmospheric Administration

RIN 0648-XC446

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council's (Council) Highly Migratory Species Committee (HMS) will hold a public meeting.

DATES: The meeting will be held on February 4, 2013 beginning at 10 a.m.

ADDRESSES: The meeting will be held via webinar with a listening station at the Council office. Webinar access details will be posted at: http://www.mafmc.org.

Council address: Mid-Atlantic Fishery Management Council, 800 North State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The purpose of this meeting is to review and develop comments from the Council on Amendment 5 to the 2006 Consolidated Highly Migratory Species Fishery Management Plan. The proposed measures include changes to commercial quotas and species groups, the creation of several time/area closures, a change to an existing time/area closure, an increase in the recreational minimum size restrictions, and the establishment of recreational reporting for certain species of sharks. A summary of the measures is available at: http://www.nmfs.noaa.gov/sfa/hms/newslist/2012/11-15-12_a5_proposed_rule_listserv.pdf. The measures are being considered by the National Marine Fisheries Service (not by the Council) but because of potential impacts to constituents in the Mid-Atlantic area, the Council is considering submitting comments on the proposed measures. The public may also submit comments directly at: http://www.regulations.gov/#!documentDetail;D=NOAA-NMFS-2012-0161-0013 until February 12, 2013.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: January 15, 2013.
Tracey L. Thompson,
Acting Deputy Director, Office of Sustainable Fisheries, National Marine Fisheries Service.

[FR Doc. 2013-00974 Filed 1-17-13; 8:45 am]

BILLING CODE 3510-22-P